DEPARTMENT OF COMMERCE

National Oceanic and Atmospheric Administration

RIN 0648-XF504

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee to consider actions affecting New England fisheries in the exclusive economic zone (EEZ). Recommendations from this group will be brought to the full Council for formal consideration and action, if appropriate.

DATES: This meeting will be held on Wednesday, July 19, 2017 at 9:30 a.m.

ADDRESSES:

Meeting address: The meeting will be held at the Holiday Inn, 700 Myles Standish Boulevard, Taunton, MA 02780: (508) 823-0430.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Research Steering Committee will discuss how recently set priorities may be accomplished and potential improvements to the priority setting process. The Committee will receive an update on recent Northeast Cooperative Research Program (NCRP) activities, discuss the recent programmatic review and develop recommendations for how the program may help address Council research priorities and other improvements. They will also receive a presentation on creating a vision for the future of stock assessment using technologies currently in development as well as review completed research projects on the topics of recreational discard mortality, the commercial redfish fishery, and fishing gear conservation engineering. The Committee will discuss the NCRP network approach to funding research and develop recommendations. The Committee will also address other business as necessary.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: June 23, 2017.
Jeffrey N. Lonergan,
Acting Deputy Director, Office of Sustainable Fisheries, National Marine Fisheries Service.

[FR Doc. 2017-13620 Filed 6-28-17; 8:45 am]

BILLING CODE 3510-22-P